DEPARTMENT OF ENERGY

[Docket No. PP-371]

Notice of Intent To Prepare a Supplement to the Draft Northern Pass Transmission Line Project Environmental Impact Statement and Announcing the Extension of the Public Comment Period and Postponement of Public Hearings To Receive Comments on the Draft Environmental Impact Statement

AGENCY: Department of Energy.

ACTION: Notice of intent to prepare a Supplement to the Draft Northern Pass Transmission Line Project Environmental Impact Statement (EIS) (DOE/EIS-0463) and announcing the extension of the public comment period and postponement of public hearings on the Draft EIS.

SUMMARY: In August 2015, the U.S. Department of Energy (DOE) received an amendment to the July 2013 Northern Pass Transmission Line Project Presidential permit amended application.

The August 2015 application amendment changed the proposed transmission line route by adding three miles of buried transmission line adjacent to a road not previously analyzed, added two new transition stations and increased the total amount of proposed buried transmission line from approximately 8 miles to approximately 60 miles. In addition, the amendment proposed a minor shift in the international border crossing location and identified some other project changes. The proposed transmission line route and associated changes in the amended application is a new “Applicant's Preferred Alternative.”

The Supplement to the Draft EIS will present an analysis of the new Applicant's Preferred Alternative. This analysis will compare the new proposed transmission line route and configuration (above ground/underground) against the alternatives currently presented in the Draft EIS. To accommodate public review and comment on both the Draft EIS and the Supplement to the Draft EIS, DOE is extending the public comment period until December 31, 2015. DOE has canceled the public hearings on the Draft EIS that were to be held in October 2015 and will reschedule those hearings after the Supplement to the Draft EIS is issued.

DATES: DOE extends the current public comment period that was to close on October 29, 2015, to December 31, 2015. DOE will conduct public hearings on the Draft EIS and the Supplement to the Draft EIS prior to the close of the public comment period on December 31, 2015. DOE will announce dates, times and locations of the rescheduled public hearings after issuance of the Supplement to the Draft EIS, which is expected in November 2015.

ADDRESSES: Requests for individuals to be added to the document mailing list (to receive a paper or electronic copy of the Draft EIS and/or Supplement to the Draft EIS) should be addressed to: Brian Mills, Office of Electricity Delivery and Energy Reliability (OE-20), U.S. Department of Energy, 1000 Independence Avenue SW., Washington, DC 20585; by email to Brian.Mills@hq.doe.gov; or by facsimile to 202-586-8008. Additional information on the Northern Pass Transmission Line Project EIS is available on the EIS Web site at http://www.northernpasseis.us.

SUPPLEMENTARY INFORMATION: The public comment period on the Draft EIS started on July 31, 2015, with publication in the Federal Register by the U.S. Environmental Protection Agency of its Notice of Availability of the Draft EIS. The Draft EIS is available on the Northern Pass EIS Web site at http://www.northernpasseis.us/library/draft-eis. On August 28, 2015, DOE announced public hearings in October 2015 to receive comments on the Draft EIS in the Federal Register (80 FR 52268). On August 31, 2015, DOE received an amendment to the July 1, 2013, Northern Pass Transmission Line Project Presidential permit amended application. The August 31, 2015 amendment and related exhibits are available on the Northern Pass EIS Web site at http://www.northernpasseis.us/library/documents/.

The August 31, 2015 application amendment changed the proposed transmission line route by adding three miles of buried transmission line adjacent to a road not previously analyzed, added two new transition stations (one in Bridgewater and one in Bethlehem; both would transition the transmission line between aboveground and buried) of approximately one acre each, and increased the amount of proposed buried transmission line from approximately 8 miles to approximately 60 miles. In addition, the amendment proposed a minor shift (less than 100 feet) in the international border crossing location, changed the project size from 1,200 MW to 1,000 MW with a potential transfer capability of 1,090 MW and included other design changes (e.g., change in converter technology and type of cable).

Issued in Washington, DC, on September 24, 2015.
Meghan Conklin,
Deputy Assistant Secretary, National Electricity Delivery Division, Office of Electricity Delivery and Energy Reliability, U.S. Department of Energy.

[FR Doc. 2015-24772 Filed 9-29-15; 8:45 am]

BILLING CODE 6450-01-P